DEPARTMENT OF HEALTH AND HUMAN SERVICES

[Document Identifier: OS-0990-0452]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 18, 2020.

ADDRESSES: Submit your comments to Sherrette.Funn@hhs.gov or by calling (202) 795-7714.

FOR FURTHER INFORMATION CONTACT: When submitting comments or requesting information, please include the document identifier 0990-0452-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Federal Evaluation of Making Proud Choices! (MPC!).

Type of Collection: Revision.

OMB No.: 0990-0452.

Abstract: The Office of Population Affairs (OPA), U.S. Department of Health and Human Services (HHS) is requesting an extension with revision of a currently approved information collection (OMB No: 0990-0452). The purpose of the revision is to complete the nine-month follow-up data collection for the Federal Evaluation of Making Proud Choices! (MPC). The evaluation is being conducted in 15 schools across four school districts nationwide and will provide information about program design, implementation, and impacts through a rigorous assessment of a highly popular teen pregnancy prevention curriculum—MPC. Clearance is requested for three years. This revision is necessary to complete the 9-month post-baseline follow up data collection after enrolling a fourth and final cohort into the study. The follow-up survey data will be used to determine program effectiveness by comparing sexual behavior outcomes, such as postponing sexual activity, and reducing or preventing sexual risk behaviors and STDs and intermediate outcomes, such as improving exposure, knowledge and attitudes between treatment (program) and control youth. The findings from these analyses of program impacts will be of interest to the general public, to policymakers, and to schools and other organizations interested in supporting a comprehensive approach to teen pregnancy prevention. The revision request also updates the burden by removing the second (15 months post baseline) survey from the data collection.

Type of Respondent: The follow-up survey will be administered to study participants, who will primarily be in 10th-12th grade at the time of the follow-up survey.

Annualized Burden Hour Table
Forms (if necessary) | Respondents (if necessary) | Number of respondents | Number of responses per respondents | Average burden per response | Total burden hours
Follow up survey (9-months post baseline) | students | 200 | 1 | 30/60 | 100
Total |  |  | 1 |  | 100

Terry Clark,
Office of the Secretary, Asst. Paperwork Reduction Act Reports Clearance Officer.

[FR Doc. 2019-27376 Filed 12-18-19; 8:45 am]

BILLING CODE 4150-43-P